INTERNATIONAL TRADE COMMISSION

[Investigation No. 731-TA-762]

Static Random Access Memory Semiconductors From Taiwan; Notice of Final Decision Affirming Remand Determination

AGENCY: U.S. International Trade Commission.

ACTION: Notice.

SUMMARY: The Commission hereby gives notice of a final court decision affirming its final negative determination, made pursuant to court remand, in the antidumping duty investigation of static random access memory semiconductors (SRAMs) from Taiwan.

FOR FURTHER INFORMATION CONTACT: Michael Diehl, Esq., Office of the General Counsel, U.S. International Trade Commission, telephone (202) 205-3095. Hearing-impaired persons are advised that information on this matter can be obtained by contacting the Commission's TDD terminal on (202) 205-1810. General information concerning the Commission may also be obtained by accessing its Internet server (http://www.usitc.gov).

SUPPLEMENTARY INFORMATION: In April of 1998, the Commission published its determination that an industry in the United States was materially injured by reason of imports of SRAMs from Taiwan found by the Department of Commerce (Commerce) to be sold at less than fair value. The Commission also found that the domestic industry was not materially injured or threatened with material injury by reason of subject imports of SRAMs from the Republic of Korea. Static Random Access Memory Semiconductors from the Republic of Korea and Taiwan, Investigation Nos. 731-TA-761-762 (Final), USITC Pub. 3098 (April 1998). See 63 FR 18443 (April 15, 1998).

The Taiwan Semiconductor Industry Association and others sought review of the affirmative determination in the United States Court of International Trade (CIT). On June 30, 1999, the CIT remanded the determination to the Commission with instructions to provide further explanation regarding the Commission's volume and price effects determinations. Taiwan Semiconductor Industry Ass'n v. United States, 59 F.Supp.2d 1324 (CIT 1999) (Taiwan I).

After an additional remand from the CIT on April 11, 2000, Taiwan Semiconductor Industry Ass'n v. United States, 105 F.Supp.2d 1363 (2000) (Taiwan II), the Commission determined that a domestic industry in the United States was not materially injured or threatened with material injury by reason of subject imports of SRAMs from Taiwan. Static Random Access Memory Semiconductors from Taiwan (Views on Remand), Investigation No. 731-TA-762 (Second Remand), USITC Pub. 3319 (June 2000). On August 29, 2000, the CIT affirmed the Commission's negative remand determination. Taiwan Semiconductor Industry Ass'n v. United States, 118 F.Supp.2d 1250 (CIT 2000) (Taiwan III).

On September 28, 2000, Commerce published notice of the CIT decision, pursuant to 19 U.S.C. 1516a(c). 65 F.R. 58263. In accordance with Timken Co. v. United States, 893 F.2d 337 (Fed. Cir. 1990), Commerce stated that it would continue to order the suspension of liquidation of the subject merchandise. Commerce also indicated that, if the CIT decision was affirmed on appeal, it would revoke the antidumping duty order.

Petitioner Micron Technology, a domestic producer of SRAMs, appealed the CIT's decisions in Taiwan I and Taiwan III. On September 21, 2001, the United States Court of Appeals for the Federal Circuit (CAFC) affirmed the CIT's decision to remand for further explanation in Taiwan I, and affirmed the Commission's negative remand determination. Taiwan Semiconductor Industry Ass'n v. United States, 266 F.3d 1339 (2001). The CAFC issued its mandate on December 11, 2001.

The judicial proceedings having ended and the final court decision having been issued, the Commission, pursuant to 19 U.S.C. 1516a(e), publishes notice of the final court decision affirming its negative remand determination.

Issued: December 28, 2001.

By order of the Commission.

Donna R. Koehnke,
Secretary.

[FR Doc. 02-139 Filed 1-2-02; 8:45 am]

BILLING CODE 7020-02-M